DEPARTMENT OF TRANSPORTATION

Federal Aviation Administration

14 CFR Part 39

[Docket No. FAA-2004-19530; Directorate Identifier 2002-NM-274-AD; Amendment 39-14008; AD 2005-05-19]

RIN 2120-AA64

Airworthiness Directives; Boeing Model 727 Airplanes

AGENCY: Federal Aviation Administration (FAA), Department of Transportation (DOT).

ACTION: Final rule.

SUMMARY: The FAA is superseding an existing airworthiness directive (AD), which applies to certain Boeing Model 727 airplanes. That AD currently requires repetitive detailed inspections to detect cracking, corrosion, and existing stop-drilled repairs of cracking in the upper chord of the rear spar of the wing; and repair if necessary. This new AD requires new repetitive inspections to detect cracks, corrosion, minor surface defects, and existing stop-drilled repairs of cracks in the upper and lower chords of the front and rear spars of the wing; and repair if necessary. This AD is prompted by our determination that further rulemaking action is necessary to require additional actions specified in the referenced service bulletin. We are issuing this AD to prevent structural failure of the wing and fuel leaks in the airplane due to stress corrosion cracking of the wing spar chords.

DATES: This AD becomes effective April 15, 2005.

On December 18, 2002 (67 FR 71808, December 3, 2002), the Director of the Federal Register approved the incorporation by reference of Boeing Alert Service Bulletin 727-57A0145, Revision 2, dated October 24, 2002.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW, room PL-401, Washington, DC. This docket number is FAA-2004-19530; the directorate identifier for this docket is 2002-NM-274-AD.

FOR FURTHER INFORMATION CONTACT: Daniel F. Kutz, Aerospace Engineer, Airframe Branch, ANM-120S, FAA, Seattle Aircraft Certification Office, 1601 Lind Avenue, SW., Renton, Washington 98055-4056; telephone (425) 917-6456; fax (425) 917-6590.

SUPPLEMENTARY INFORMATION: The FAA proposed to amend part 39 of the Federal Aviation Regulations (14 CFR Part 39) with an AD to supersede AD 2002-24-05, amendment 39-12970 (67 FR 71808, December 3, 2002). The existing AD applies to certain Boeing Model 727 airplanes. The proposed AD was published in the Federal Register on November 5, 2004 (69 FR 64506), to require new repetitive inspections to detect cracks, corrosion, minor surface defects, and existing stop-drilled repairs of cracks in the upper and lower chords of the front and rear spars of the wing; and repair if necessary.

Comments

We provided the public the opportunity to participate in the development of this AD. We have considered the comment that has been submitted on the proposed AD. The commenter supports the proposed AD.

Explanation of Change to Model Designation

We have revised the subject heading of the existing AD to identify model designations as published in the most recent type certificate data sheet for the affected models.

Changes to Delegation Authority

Boeing has received a Delegation Option Authorization (DOA). We have revised this final rule to delegate the authority to approve an alternative method of compliance for any repair required by this AD to the Authorized Representative for the Boeing DOA Organization rather than the Designated Engineering Representative (DER).

Conclusion

We have carefully reviewed the available data, including the comment that has been submitted, and determined that air safety and the public interest require adopting the AD with the change described previously. We have determined that this change will neither increase the economic burden on any operator nor increase the scope of the AD.

Costs of Compliance

There are about 1,426 airplanes of the affected design in the worldwide fleet. This AD will affect about 946 airplanes of U.S. registry.

For Group 1 airplanes identified in the service bulletin, the actions (Part 1 of the Accomplishment Instructions of the service bulletin) that are required by AD 2002-24-05 and retained in this AD take about 8 work hours per airplane, at an average labor rate of $65 per work hour. Based on these figures, the estimated cost of the currently required actions is $520 per airplane.

The following table provides the estimated costs for U.S. operators to comply with the new actions required by this AD. The average labor rate is $65 per work hour.

Estimated Costs
For airplanes identified in the service bulletin as— | Actions in— | Work hours— | Per airplane cost, per inspection cycle—
Group 1 | Part 2 of the Accomplishment Instructions of the service bulletin | 30 | $1,950
Group 1 | Part 3 of the Accomplishment Instructions of the service bulletin | 21 | 1,365
Group 1 | Part 4 of the Accomplishment Instructions of the service bulletin | 68 | 4,420
Group 1 | Part 8 of the Accomplishment Instructions of the service bulletin | 8 | 520
Group 1 | Part 9 of the Accomplishment Instructions of the service bulletin | 30 | 1,950
Group 2 | Part 5 of the Accomplishment Instructions of the service bulletin | 52 | 3,380
Group 2 | Part 6 of the Accomplishment Instructions of the service bulletin | 110 | 7,150

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12970 (67 FR 71808, December 3, 2002), and by adding the following new airworthiness directive (AD):

2005-05-19 Boeing: Amendment 39-14008. Docket No. FAA-2004-19530; Directorate Identifier 2002-NM-274-AD.

Effective Date

(a) This AD becomes effective April 15, 2005.

Affected ADs

(b) This AD supersedes AD 2002-24-05, amendment 39-12970.

Applicability

(c) This AD applies to Boeing Model 727, 727C, 727-100, -100C, -200, and -200F series airplanes, line numbers 1 through 1832 inclusive; certificated in any category.

Unsafe Condition

(d) This AD was prompted by our determination that further rulemaking action is necessary to require additional actions specified in the referenced service bulletin. We are issuing this AD to prevent structural failure of the wing and fuel leaks in the airplane due to stress corrosion cracking of the wing spar chords.

Compliance

(e) You are responsible for having the actions required by this AD performed within the compliance times specified, unless the actions have already been done.

Service Bulletin References

(f) The term “the service bulletin,” as used in this AD, means Boeing Alert Service Bulletin 727-57A0145, Revision 2, dated October 24, 2002.

Inspection Requirements of AD 2002-24-05, Amendment 39-12970

Inspection

(g) For airplanes specified as “Group 1” airplanes in the service bulletin: Within 20 years after the date of manufacture or within 90 days after December 18, 2002 (the effective date of AD 2002-24-05, amendment 39-12970), whichever occurs later, perform an external detailed inspection for cracking, corrosion, and existing stop-drilled repairs of cracking in the upper chord on the rear spar from Wing Butt Line (WBL) 70.5 through WBL 249.3, per the service bulletin, paragraph 3.B, “Work Instructions,” Part 1. Thereafter, repeat the inspection at intervals not to exceed 2 years.

Note 1: For the purposes of this AD, a detailed inspection is “an intensive examination of a specific item, installation, or assembly to detect damage, failure, or irregularity. Available lighting is normally supplemented with a direct source of good lighting at an intensity deemed appropriate. Inspection aids such as mirrors, magnifying lenses, etc., may be necessary. Surface cleaning and elaborate procedures may be required.”

New Actions Required by This AD

Inspections Specified in Parts 2 Through 6, and 8 and 9 of the Service Bulletin

(h) Accomplish the applicable inspection(s) specified in paragraphs (h)(1) through (h)(7) of this AD at the later of the applicable times specified in the “Threshold” and “Grace Period” columns in Table 1 of this AD, and repeat the inspection(s) at the time specified in the “Repetitive Interval” column of Table 1 of this AD. Accomplishment of the inspection required by paragraph (h)(1) of this AD terminates the repetitive inspection requirements of paragraph (g) of this AD.

Table 1.—Compliance Times for Inspections Specified in Parts 2 Through 6, and 8 and 9 of Service Bulletin
For airplanes identified in the service bulletin as— | Threshold— | Grace period— | Repetitive interval— | Do—
(1) Group 1 | Before 20 years since the date of issuance of the original Airworthiness Certificate or the date of issuance of the original Export Certificate of Airworthiness | Within 1 year after the effective date of this AD | None | A high frequency eddy current (HFEC) inspection and detailed inspection of the upper chord the rear spar from WBL 70.5 to the wing tip for cracks, corrosion, minor surface defects, and existing stop-drilled repairs of cracking, in accordance with paragraph 3.B., Work Instructions, Part 2, of the Accomplishment Instructions of the service bulletin.
(2) Group 1 | Before 20 years since the date of issuance of the original Airworthiness Certificate or the date of issuance of the Original Export Certificate of Airworthiness | Within 2 years after the effective date of this AD | At intervals not to exceed 2 years | A detailed inspection of the upper and lower chord of the front spar and the lower chord of the rear spar from WBL 70.5 to the wing tip for cracks, corrosion, minor surface defects, and existing stop-drilled repairs of cracking (initial inspection only), in accordance with paragraph 3.B., Work Instructions, Part 3, of the Accomplishment Instructions of the service bulletin.
(3) Group 1 | Before 20 years since the date of issuance of the original Airworthiness Certificate or the date of issuance of the original Export Certificate of Airworthiness | Within 4 years after the effective date of this AD | At intervals not to exceed 4 years | An HFEC inspection of the upper and lower chords of the rear spar from WBL 70.5 to the wing tip for cracks, corrosion, minor surface defects, and existing stop-drilled repairs of cracking (initial inspection only), in accordance with paragraph 3.B., Work Instructions, Part 4, of the Accomplishment Instructions of the service bulletin.
(4) Group 1 | Within 2 years after doing the actions required by paragraph (h)(1) of this AD | None | At intervals not to exceed 2 years | A detailed inspection of the upper chord of the rear spar WBL 70.5 to the wing tip for cracks, corrosion, minor surface defects, and existing stop-drilled repairs of cracking (initial inspection only), in accordance with paragraph 3.B., Work Instructions, Part 8, of the Accomplishment Instructions of the service bulletin.
(5) Group 1 | Within 4 years after doing the actions required by paragraph (h)(1) of this AD | None | At intervals not to exceed 4 years | An HFEC inspection of doing the not to the upper chord actions exceed 4 of the rear spar required by years from WBL 70.5 to paragraph the wing tip for (h)(1) of cracks, this AD corrosion, minor surface defects, and existing stop-drilled repairs of cracking (initial inspection only), in accordance with paragraph 3.B., Work Instructions, Part 9, of the Accomplishment Instructions of the service bulletin.
(6) Group 2 | Before 20 years since the date of issuance of the original Airworthiness Certificate or the date of issuance of the original Export Certificate of Airworthiness | Within 2 years after the effective date of this AD | At intervals not to exceed 2 years | An exterior detailed inspection of the upper and lower chords of the front and rear spars from WBL 70.5 to the wing tip for cracks, corrosion, minor surface defects, and existing stop-drilled repairs of cracking (initial inspection only), in accordance with paragraph 3.B., Work Instructions, Part 5, of the Accomplishment Instructions of the service bulletin.
(7) Group 2 | Before 20 years since the date of issuance of the original Airworthiness Certificate or the date of issuance of the original Export Certificate of Airworthiness | Within 4 years after the effective date of this AD | At intervals not to exceed 4 years | An HFEC inspection of the upper and lower chords of the front and rear spars from WBL 70.5 to the wing tip for cracks, corrosion, minor surface defects, and existing stop-drilled repairs of cracking (initial inspection only), in accordance with paragraph 3.B., Work Instructions, Part 6, of the Accomplishment Instructions of the service bulletin.

Corrective Actions

(i) If any crack, corrosion, or minor surface defect is detected during any inspection required by this AD, before further flight, do the applicable corrective actions in accordance with Part 7 of the Accomplishment Instructions of the service bulletin, except as provided by paragraph (j) of this AD.

(j) If any crack or corrosion is detected during any inspection required by this AD that exceeds the limits specified in the service bulletin, and the bulletin specifies to contact Boeing for appropriate action: Before further flight, repair in accordance with a method approved by the Manager, Seattle Aircraft Certification Office (ACO), FAA; or in accordance with data meeting the certification basis of the airplane approved by an Authorized Representative for the Boeing Delegation Option Authorization Organization who has been authorized by the Manager, Seattle ACO, to make such findings. For a repair method to be approved, the approval must specifically reference this AD.

(k) If any existing stop-drilled repair of previous cracking is detected during any inspection required by this AD, before further flight, permanently repair crack in accordance with paragraph 3.B., Work Instructions, Part 7, paragraph 2., “Crack Repair” of the Accomplishment Instructions of the service bulletin.

(l) Before further flight following any inspection or repair required by this AD, apply a wet layer of BMS 3-23 organic corrosion inhibiting compound or Boeing equivalent, in accordance with the Accomplishment Instructions of the service bulletin.

Alternative Methods of Compliance (AMOCs)

(m)(1) The Manager, Seattle ACO, FAA, has the authority to approve AMOCs for this AD, if requested using the procedures found in 14 CFR 39.19.

(2) Alternative methods of compliance, approved previously in accordance with AD 2002-24-05, amendment 39-12970, are approved as alternative methods of compliance with this AD.

(3) An AMOC that provides an acceptable level of safety may be used for any repair required by this AD, if it is approved by an Authorized Representative for the Boeing Delegation Option Authorization Organization who has been authorized by the Manager, Seattle ACO, to make such findings. For a repair method to be approved, the approval must specifically reference this AD.

Material Incorporated by Reference

(n) You must use Boeing Alert Service Bulletin 727-57A0145, Revision 2, dated October 24, 2002, to perform the actions that are required by this AD, unless the AD specifies otherwise. The Director of the Federal Register previously approved the incorporation by reference of this document as of December 18, 2002 (67 FR 71808, December 3, 2002). For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html. You may view the AD docket at the Docket Management Facility, U.S. Department of Transportation, 400 Seventh Street SW, room PL-401, Nassif Building, Washington, DC.

Issued in Renton, Washington, on March 2, 2005.
Ali Bahrami,
Manager, Transport Airplane Directorate, Aircraft Certification Service.

[FR Doc. 05-4826 Filed 3-10-05; 8:45 am]

BILLING CODE 4910-13-P